DEPARTMENT OF HOUSING AND URBAN DEVELOPMENT

[Docket No. FR-6395-N-03]

Notice of Regulatory Waiver Requests Granted for the Third Quarter of Calendar Year 2023

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2023 and ending on September 30, 2023.

FOR FURTHER INFORMATION CONTACT: For general information about this notice, contact Aaron Santa Anna, Associate General Counsel for Legislation and Regulations, Department of Housing and Urban Development, 451 Seventh Street SW, Room 10282, Washington, DC 20410-0500, telephone (202) 708-5300 (this is not a toll-free number). HUD welcomes and is prepared to receive calls from individuals who are deaf or hard of hearing, as well as individuals with speech or communication disabilities.

To learn more about how to make an accessible telephone call, please visit: https://www.fcc.gov/consumers/guides/telecommunications-relay-service-trs.

For information concerning a particular waiver that was granted and for which public notice is provided in this document, contact the person whose name and address follow the description of the waiver granted in the accompanying list of waivers that have been granted in the third quarter of calendar year 2023.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2023 through September 30, 2023. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2023) before the next report is published (the fourth quarter of calendar year 2023), HUD will include any additional waivers granted for the third quarter in the next report.

Accordingly, information about approved waiver requests pertaining to HUD regulations is provided in the Appendix that follows this notice.

Benjamin Klubes,
Principal Deputy General Counsel.

Appendix

Listing of Waivers of Regulatory Requirements Granted by Offices of the Department of Housing and Urban Development July 1, 2023 Through September 30, 2023

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 93.400(d)(2). Project/Activity: The State of Rhode Island requested a waiver of 24 CFR 93.400(d)(2) to extend the expenditure deadline for its Fiscal Year 2017 grant funds which are currently committed to a 70-unit mixed-income rental development project, designated as activity #5867 in HUD's Integrated Disbursement and Information System (IDIS).

Nature of Requirement: The regulation at 24 CFR 93.400(d)(2) requires HUD to reduce or recapture any fiscal year grant funds in the State's HTF Treasury account that are not expended within 5 years after the date of HUD's execution of the HTF grant agreement.

Granted By: Marion M. McFadden, Principal Deputy Assistant Secretary for Community Planning and Development.

Date Granted: July 3, 2023.

Reason Waived: The Department determined that there is sufficient good cause to grant a waiver of the requirement in 24 CFR 93.400(d)(2) to reduce or recapture the State's FY 2017 HTF funds committed to IDIS activity #5867 due to project delays caused by the increase in construction costs that were beyond the State's control. This waiver will extend the expenditure deadline for the State's FY 2017 HTF funds until January 24, 2024, which enable the State to retain HTF funds committed to the project and prevent the potential loss of affordable units if the project loses necessary funds for completion.

Contact: Virginia Sardone, Director, Office of Affordable Housing Programs, Office of Community Planning and Development, Department of Housing and Urban Development, 451 Seventh Street SW, Room 7160, Washington, DC 20410, telephone (202) 708-2684.

• Regulation: 24 CFR 92.252(d)(l) Utility Allowance Requirements.

Project/Activity: Contra Costa County, San Joaquin County, and the City of Palmdale, California requested waivers of 24 CFR 92.252(d)(1) to allow the use of the utility allowance established by the local public housing agency (PHA) for three HOME-assisted projects: Galindo Terrace Apartments (Contra Costa County, CA), Stone Pine Meadows Apartments (San Joaquin County, CA), and Juniper Grove Apartments (Palmdale, CA).

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: July 7, 2023.

Reason Waived: The HOME requirements for establishing utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(l) Utility Allowance Requirements.

Project/Activity: The City of Fargo, North Dakota requested a waiver of 24 CFR 92.252(d)(1) to allow use of the utility allowance established by the local public housing agency (PHA) for Elliott Place Four, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: July 18, 2023.

Reason Waived: The HOME requirements for establishing utility allowances conflict with Project Based Voucher program requirements. It is not possible to use two different utility allowances to set the rent for a single unit and it is administratively burdensome to require a project owner to establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any participating jurisdiction or grantee located in the declared-disaster areas for the severe storms and flooding in Vermont (DR-7420-VT).

Nature of Requirement: These sections of the HOME regulation require initial income determinations for HOME beneficiaries by examining source documents covering the most recent two months.

Granted By: Marion M. McFadden, Principal Deputy Assistant Secretary for Community Planning and Development.

Date Granted: July 27, 2023.

Reason Waived: Many families whose housing was destroyed or damaged by the disaster will not have any documentation of income and will not be able to qualify for HOME assistance if the requirement remains effective. This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from July 27, 2023. The participating jurisdiction or, as appropriate, HOME project owner, is required to maintain: 1) a record of FEMA registration to demonstrate that a family was displaced by the disaster; and 2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas for the severe storms and flooding in Vermont (DR-7420-VT).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion M. McFadden, Principal Deputy Assistant Secretary for Community Planning and Development.

Date Granted: July 27, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the PJ, for a period of 24 months after July 27, 2023. The provision of 24 CFR 92.209(h)(1) imposing the maximum amount of TBRA assistance a participating jurisdiction may provide to a family under HOME TBRA is waived for TBRA recipients who are displaced by the disaster, as evidenced by the family's FEMA registration, for a period of 24 months after July 27, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after July 27, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Any participating jurisdiction located in the declared-disaster areas for the severe storms and flooding in Vermont (DR-7420-VT).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: July 27, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas for the severe storms and flooding in Vermont (DR-7420-VT).

Nature of Requirement: This provision requires that housing assisted with HOME funds meet property standards based on the activity undertaken, i.e., acquisition of housing including through homebuyer assistance, and state and local standards and codes or model codes for rehabilitation and new construction.

Granted By: Marion M. McFadden, Principal Deputy Assistant Secretary for Community Planning and Development.

Date Granted: July 27, 2023.

Reason Waived: This waiver is required to enable the participating jurisdiction to meet the critical housing needs of families whose housing was damaged and families who were displaced by the disaster.

Applicability: This waiver applies only to housing units located in the declared-disaster areas which were damaged by the disaster and to which HOME funds are committed within two years of July 27, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas for the severe storms and flooding in Vermont (DR-7420-VT).

Nature of Requirement: This section of the HTF regulation requires initial income determinations for HTF beneficiaries by examining source documents covering the most recent two months.

Granted By: Marion M. McFadden, Principal Deputy Assistant Secretary for Community Planning and Development.

Date Granted: July 27, 2023.

Reason Waived: Many families whose homes were destroyed or damaged by the disaster will not have any documentation of income and will not be able to qualify for HTF assistance if the requirement remains effective. This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from July 27, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any participating jurisdiction located in the declared-disaster areas for the wildfires in Hawaii (DR-4724-HI).

Nature of Requirement: These sections of the HOME regulation require initial income determinations for HOME beneficiaries by examining source documents covering the most recent two months.

Granted By: Marion M. McFadden, Principal Deputy Assistant Secretary for Community Planning and Development.

Date Granted: August 14, 2023.

Reason Waived: Many families whose housing was destroyed or damaged by the disaster will not have any documentation of income and will not be able to qualify for HOME assistance if the requirement remains effective. This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from August 14, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas for the wildfires in Hawaii (DR-4724-HI).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion M. McFadden, Principal Deputy Assistant Secretary for Community Planning and Development.

Date Granted: August 14, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the PJ, for a period of 24 months after August 14, 2023. The provision of 24 CFR 92.209(h)(1) imposing the maximum amount of TBRA assistance a participating jurisdiction may provide to a family under HOME TBRA is waived for TBRA recipients who are displaced by the disaster, as evidenced by the family's FEMA registration, for a period of 24 months after August 14, 2023. The other provisions of 24 CFR 92.209(h) are not waived.

The waiver of the housing quality standards requirements at 24 CFR 92.209(i) applies to units leased by TBRA recipients who were displaced by the disaster, as evidenced by the recipient's FEMA registration, and are being assisted through a HOME TBRA program funded by the participating jurisdiction for a period of 24 months after August 14, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: HOME funds expended by the State participating jurisdiction for projects located in the declared-disaster areas for the wildfires in Hawaii (DR-4724-HI).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: August 14, 2023.

Reason Waived: Given the urgent housing needs created by the disaster and the substantial financial impact the participating jurisdiction will face in addressing those needs, the approval of a 100 percent match reduction for all HOME funds expended by the State on projects in the declared-disaster areas, rather than on an case-by-case basis, will relieve administrative and financial burden on the affected participating jurisdiction by expediting the process for reduction and the need to identify and provide matching contributions to HOME projects.

Applicability: This match reduction applies to funds expended by the State participating jurisdiction for projects located in the declared-disaster areas from October 1, 2022, through September 30, 2024.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas for the wildfires in Hawaii (DR-4724-HI).

Nature of Requirement: This provision requires that housing assisted with HOME funds meet property standards based on the activity undertaken, i.e., acquisition of housing including through homebuyer assistance, and state and local standards and codes or model codes for rehabilitation and new construction.

Granted By: Marion M. McFadden, Principal Deputy Assistant Secretary for Community Planning and Development.

Date Granted: August 14, 2023.

Reason Waived: This waiver is required to enable the participating jurisdiction to meet the critical housing needs of families whose housing was damaged and families who were displaced by the disaster.

Applicability: This waiver applies only to housing units located in the declared-disaster areas which were damaged by the disaster and to which HOME funds are committed within two years of August 14, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas for the wildfires in Hawaii (DR-4724-HI).

Nature of Requirement: This section of the HTF regulation requires initial income determinations for HTF beneficiaries by examining source documents covering the most recent two months. Many families whose homes were destroyed or damaged by the disaster will not have any documentation of income and will not be able to qualify for HTF assistance if the requirement remains effective.

Granted By: Marion M. McFadden, Principal Deputy Assistant Secretary for Community Planning and Development.

Date Granted: August 14, 2023.

Reason Waived: This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from August 14, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any participating jurisdiction or grantee located in the declared-disaster area for Hurricane Idalia in Florida (DR-4734-FL).

Nature of Requirement: These sections of the HOME regulation require initial income determinations for HOME beneficiaries by examining source documents covering the most recent two months.

Granted By: Marion M. McFadden, Principal Deputy Assistant Secretary for Community Planning and Development.

Date Granted: September 18, 2023.

Reason Waived: This waiver permits the participating jurisdictions to use self-certification of income, as provided in § 92.203(a)(1)(ii), in lieu of source documentation to determine eligibility for HOME assistance of persons displaced by the disaster.

Applicability: Many families whose housing was destroyed or damaged by the disaster will not have any documentation of income and will not be able to qualify for HOME assistance if the requirement remains effective. These waivers are only available to participating jurisdictions within the declared-disaster areas or the State participating jurisdiction of the declared-disaster areas to assist those displaced by the disaster. This waiver applies only to families displaced by the disaster (as documented by FEMA registration) whose income documentation was destroyed or made inaccessible by the disaster and remains in effect for six months from September 18, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas for Hurricane Idalia in Florida (DR-4734-FL).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion M. McFadden, Principal Deputy Assistant Secretary for Community Planning and Development.

Date Granted: September 18, 2023.

Reason Waived: Waiving these provisions will provide the participating jurisdiction with greater flexibility to use tenant-based rental assistance as an emergency housing resource.

Applicability: All of these waivers are only available to a participating jurisdiction within the declared-disaster area or the State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the PJ, for a period of 24 months after September 18, 2023. The provision of 24 CFR 92.209(h)(1) imposing the maximum amount of TBRA assistance a participating jurisdiction may provide to a family under HOME TBRA is waived for TBRA recipients who are displaced by the disaster, as evidenced by the family's FEMA registration, for a period of 24 months after September 18, 2023. The other provisions of 24 CFR 92.209(h) are not waived.

The waiver of the housing quality standards requirements at 24 CFR 92.209(i) applies to units leased by TBRA recipients who were displaced by the disaster, as evidenced by the recipient's FEMA registration, and are being assisted through a HOME TBRA program funded by the participating jurisdiction for a period of 24 months after September 18, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Any participating jurisdiction located in the declared-disaster areas for Hurricane Idalia in Florida (DR-4734-FL).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: September 18, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas for Hurricane Idalia in Florida (DR-4734-FL).

Nature of Requirement: This provision requires that housing assisted with HOME funds meet property standards based on the activity undertaken, i.e., acquisition of housing including through homebuyer assistance, and state and local standards and codes or model codes for rehabilitation and new construction. Property standard requirements are waived for repair of properties damaged by the disaster.

Granted By: Marion M. McFadden, Principal Deputy Assistant Secretary for Community Planning and Development.

Date Granted: September 18, 2023.

Reason Waived: This waiver is required to enable the participating jurisdiction to meet the critical housing needs of families whose housing was damaged and families who were displaced by the disaster.

Applicability: This waiver applies only to housing units located in the declared-disaster areas which were damaged by the disaster and to which HOME funds are committed within two years of September 18, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas for Hurricane Idalia in Florida (DR-4734-FL).

Nature of Requirement: This section of the HTF regulation requires initial income determinations for HTF beneficiaries by examining source documents covering the most recent two months. Many families whose homes were destroyed or damaged by the disaster will not have any documentation of income and will not be able to qualify for HTF assistance if the requirement remains effective.

Granted By: Marion M. McFadden, Principal Deputy Assistant Secretary for Community Planning and Development.

Date Granted: September 18, 2023.

Reason Waived: This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from September 18, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 91.105(c)(2) and (k), 24 CFR 91.115(c)(2) and (i), and 24 CFR 91.401

Project/Activity: The State of Vermont and any HUD Community Planning and Development (CPD) grantee located in the counties included in the declared-disaster area (see DR-4720-VT) seeking to expedite action in response to severe storms and flooding, upon notification to the Community Planning and Development Director in its respective HUD Field Office. This authority is in effect for grantees in the areas covered by the major disaster declaration under title IV of the Robert T. Stafford Disaster Relief and Emergency Assistance Act (Stafford Act), DR-4720-VT, dated July 14, 2023, as may be amended (the “Vermont declared-disaster areas”) and is limited to facilitating preparation of substantial amendments to FY 2023 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: July 27, 2023.

Reason Waived: Several CPD grantees were affected by severe storms and flooding that hit Vermont and received a major disaster declaration on July 14, 2023. As a result of substantial property loss and destruction, many individuals and families residing in the Vermont declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Vermont and any HUD Community Planning and Development (CPD) grantee located in the counties included in the Vermont declared-disaster areas (see DR-4720-VT) seeking to expedite action in response to severe storms and flooding, upon notification to the Community Planning and Development Director in its respective HUD Field Office. This authority is in effect for grantees within the Vermont declared-disaster areas and is limited to facilitating preparation of substantial amendments to FY 2023 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: July 27, 2023.

Reason Waived: As stated above, several CPD grantees were affected by severe storms and flooding that hit Vermont and received a major disaster declaration on July 14, 2023. As a result of substantial property loss and destruction, many individuals and families residing in the Vermont declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Vermont severe storms and flooding.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: July 27, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe storms and flooding. The waiver will allow CDBG grantees, including grantees providing assistance to evacuees outside the Vermont declared-disaster areas, to pay for the basic daily needs of individuals and families affected by the severe storms and flooding on an interim basis. This authority is in effect through the end of the grantee's 2024 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k), 24 CFR 91.115(c)(2) and (i).

Project/Activity: The State of Hawaii and any HUD Community Planning and Development (CPD) grantee located in the counties included in the declared-disaster area (see DR-4724-HI) seeking to expedite action in response to wildfires, upon notification to the Community Planning and Development Director in its respective HUD Field Office. This authority is in effect for grantees in the areas covered by the major disaster declaration under title IV of the Robert T. Stafford Disaster Relief and Emergency Assistance Act (Stafford Act), DR-4724-HI, dated August 10, 2023, as may be amended (the “Hawaii declared-disaster areas”) and is limited to facilitating preparation of substantial amendments to FY 2023 and prior year plans.

Nature of Requirement: The regulations at 24 CFR 91.105(c)(2) and (k) and 24 CFR 91.115(c)(2) and (i) require a 30-day public comment period in the development of a consolidated plan and prior to the implementation of a substantial amendment.

Granted By: Marion McFadden, Principal Deputy Assistant Secretary for Community Planning and Development.

Date Granted: August 14, 2023.

Reason Waived: Several CPD grantees were affected by wildfires that hit Hawaii and received a disaster declaration on August 10, 2023. As a result of substantial property loss and destruction, many individuals and families residing in the Hawaii declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Hawaii and any HUD Community Planning and Development (CPD) grantee located in the counties included in the Hawaii declared-disaster areas (see DR-4724-HI) seeking to expedite action in response to wildfires, upon notification to the Community Planning and Development Director in its respective HUD Field Office. This authority is in effect for grantees within the Hawaii declared-disaster areas and is limited to facilitating preparation of substantial amendments to FY 2023 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: August 14, 2023.

Reason Waived: As stated above, several CPD grantees were affected by wildfires that hit Hawaii and received a major disaster declaration on August 10, 2023. As a result of substantial property loss and destruction, many individuals and families residing in the Hawaii declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Hawaii wildfires.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: August 14, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with wildfires. The waiver will allow CDBG grantees, including grantees providing assistance to evacuees outside the Hawaii declared-disaster areas, to pay for the basic daily needs of individuals and families affected by the wildfires on an interim basis. This authority is in effect through the end of the grantee's 2024 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k), 24 CFR 91.115(c)(2) and (i).

Project/Activity: The State of Florida and any HUD Community Planning and Development (CPD) grantee located in the counties included in the declared-disaster area seeking to expedite action in response to Hurricane Idalia, upon notification to the Community Planning and Development Director in its respective HUD Field Office. This authority is in effect for grantees in the areas covered by the major disaster declaration under title IV of the Robert T. Stafford Disaster Relief and Emergency Assistance Act (Stafford Act), DR-4734-FL, dated August 31, 2023, as may be amended (the “Florida declared-disaster areas”) and is limited to facilitating preparation of substantial amendments to FY 2023 and prior year plans.

Nature of Requirement: The regulations at 24 CFR 91.105(c)(2) and (k) and 24 CFR 91.115(c)(2) and (i) require a 30-day public comment period in the development of a consolidated plan and prior to the implementation of a substantial amendment.

Granted By: Marion McFadden, Principal Deputy Assistant Secretary for Community Planning and Development.

Date Granted: September 18, 2023.

Reason Waived: Several CPD grantees were affected Hurricane Idalia and received a major disaster declaration on August 31, 2023. As a result of substantial property loss and destruction, many individuals and families residing in the Florida declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Florida and any HUD Community Planning and Development (CPD) grantee located in the counties included in the Florida declared-disaster areas (see DR-4734-FL) seeking to expedite action in response to Hurricane Idalia, upon notification to the Community Planning and Development Director in its respective HUD Field Office. This authority is in effect for grantees within the Florida declared-disaster areas and is limited to facilitating preparation of substantial amendments to FY 2023 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: September 18, 2023.

Reason Waived: As stated above, several CPD grantees were affected by Hurricane Idalia that received a major disaster declaration on August 31, 2023. As a result of substantial property loss and destruction, many individuals and families residing in the Florida declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Hurricane Idalia.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: September 18, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with Hurricane Idalia. The waiver will allow CDBG grantees, including grantees providing assistance to evacuees outside the Florida declared-disaster areas, to pay for the basic daily needs of individuals and families affected by Hurricane Idalia on an interim basis. This authority is in effect through the end of the grantee's 2024 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

Mega-Waiver for Vermont Severe Storms and Flooding—Housing Opportunities for Persons Withs AIDS (HOPWA) Program

On July 27, 2023, HUD issued an updated memorandum offering waivers of certain statutory and regulatory requirements associated with several Community Planning and Development (CPD) grant programs to address damage and facilitate recovery from Vermont severe storms and flooding in areas covered by a major disaster declaration under Title IV of the Robert T. Stafford Disaster Relief and Emergency Assistance Act (Stafford Act), DR-4720-VT, dated July 14, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of July 27, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: July 27, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on July 27, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: July 27, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of July 27, 2023.

Nature of Requirement: Each grantee must maintain records to document compliance with HOPWA requirements, which includes determining the eligibility of a family to receive HOPWA assistance.

Granted By: Marion McFadden, Principal Deputy Assistant Secretary for Community Planning and Development.

Date Granted: July 27, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Hawaii Wildfires—Housing Opportunities for Persons Withs AIDS (HOPWA) Program

On August 14, 2023, HUD issued a memorandum offering waivers of certain statutory and regulatory requirements associated with several Community Planning and Development (CPD) grant programs to address damage and facilitate recovery from Hawaii wildfires in areas covered by a major disaster declaration under Title IV of the Robert T. Stafford Disaster Relief and Emergency Assistance Act (Stafford Act), DR-4724-HI, dated August 10, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of August 14, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: August 14, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on August 14, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: August 14, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of August 14, 2023.

Nature of Requirement: Each grantee must maintain records to document compliance with HOPWA requirements, which includes determining the eligibility of a family to receive HOPWA assistance.

Granted By: Marion McFadden, Principal Deputy Assistant Secretary for Community Planning and Development.

Date Granted: August 14, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Hurricane Idalia—Housing Opportunities for Persons Withs AIDS (HOPWA) Program

On September 18, 2023, HUD issued a memorandum offering waivers of certain statutory and regulatory requirements associated with several Community Planning and Development (CPD) grant programs to address damage and facilitate recovery from Hurricane Idalia in areas covered by a major disaster declaration under Title IV of the Robert T. Stafford Disaster Relief and Emergency Assistance Act (Stafford Act), DR-4734-FL, dated August 31, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions listed under table 65 on pages 292-294 of the NSPIRE standards at: www.hud.gov/sites/dfiles/PIH/documents/6092-N-05nspire_final_standards.pdf. Grantees must ensure that these units meet HOPWA habitability standards within 60 days of the date of September 18, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: September 18, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on September 18, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: September 18, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of May 17, 2023.

Nature of Requirement: Each grantee must maintain records to document compliance with HOPWA requirements, which includes determining the eligibility of a family to receive HOPWA assistance.

Granted By: Marion McFadden, Principal Deputy Assistant Secretary for Community Planning and Development.

Date Granted: September 18, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

I. Mega-Waiver for Vermont Severe Storms and Floods—CoC

On July 27, 2023, Principal Deputy Assistant Secretary Marion McFadden issued a memorandum offering waivers of certain statutory and regulatory requirements associated with several Community Planning and Development (CPD) grant programs to address damage and facilitate recovery from severe storms and floods in areas of Vermont covered by a major disaster declaration under Title IV of the Robert T. Stafford Disaster Relief and Emergency Assistance Act (Stafford Act), DR-4720-VT, dated July 14, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver. The waiver may be used for program participants affected by the disaster, even if they are residing outside of the disaster area.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: July 27, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the issuance of the waiver for program participants affected by the disaster, even if they are residing outside of the disaster area, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: July 27, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the issuance of the waiver for program participants affected by the disaster, even if they are residing outside of the disaster area.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: July 27, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services. The waiver may be used for program participants affected by the disaster, even if they're residing outside of the disaster area.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: July 27, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application. The waiver may be used for program participants affected by the disaster, even if they are residing outside of the disaster area.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: July 27, 2023.

Reason Waived: Waiving the requirement to obtain additional evidence of disability as provided in 24 CFR 578.103(a)(4)(i)(B)(4)) as specified above will allow recipient to house people impacted by severe storms and flooding in Vermont by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

II. Mega-Waiver for Vermont Severe Storms and Flooding—ESG

On July 27, 2023, Principal Deputy Assistant Secretary Marion McFadden issued a memorandum offering waivers of certain statutory and regulatory requirements associated with several Community Planning and Development (CPD) grant programs to address damage and facilitate recovery from severe storms and floods in areas of Vermont covered by a major disaster declaration under Title IV of the Robert T. Stafford Disaster Relief and Emergency Assistance Act (Stafford Act), DR-4720-VT, dated July 14, 2023, and as may be amended (the “declared-disaster areas”). The following summarizes the waivers available for ESG Program Recipients.

ESG—Term Limits on Rental Assistance and Housing Relocation and Stabilization Services

• Regulation: 24 CFR 576.106(a); 24 CFR 576.105(a)(5); 24 CFR 576.105(c) and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe storms and floods in Vermont; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: July 27, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: July 27, 2023.

Reason Waived: HUD granted this waiver to enable ESG recipients to meet the critical housing needs of individuals and families whose housing was damaged or who were displaced as a result of severe storms and floods in Vermont. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: July 27, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: July 27, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: July 27, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of severe storms and floods in Vermont; 2. The individual or family is currently receiving ESG-funded rental assistance as the leaseholder or housing relocation stabilization services or begins receiving rental assistance or housing relocation stabilization services within two years after the date of the issuance of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: July 27, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

III. Mega-Waiver for Hawaii Wildfires—CoC

On August 14, 2023, Principal Deputy Assistant Secretary Marion McFadden issued a memorandum offering waivers of certain statutory and regulatory requirements associated with several Community Planning and Development (CPD) grant programs to address damage and facilitate recovery from wildfires in areas of Hawaii covered by a major disaster declaration under Title IV of the Robert T. Stafford Disaster Relief and Emergency Assistance Act (Stafford Act), DR-4724-HI, dated August 10, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver. The waiver may be used for program participants affected by the disaster, even if they are residing outside of the disaster area.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: August 14, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone (202) 708-4300.

CoC—One Year Lease Requirement

• Regulation: 24 CFR 578.3, definition of permanent housing, 24 CFR 578.51(l)(1).

Project/Activity: The one-year lease requirement is waived for two years beginning on the date of the issuance of the waiver for program participants affected by the disaster, even if they are residing outside of the disaster area, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: August 14, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

CoC—One-Time Limit on Moving Costs

• Regulation: 24 CFR 578.53(e)(2).

Project/Activity: The one-time limit on moving costs of program participants is waived for two years beginning on the date of the issuance of the waiver for program participants affected by the disaster, even if they are residing outside of the disaster area.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: August 14, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone (202) 708-4300.

CoC—Fair Market Rent (FMR) Cap on Rent Paid With Leasing Funds

• Regulation: 24 CFR 578.49(b)(2).

Project/Activity: The FMR restriction is waived for any lease executed by a recipient or subrecipient to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services. The waiver may be used for program participants affected by the disaster, even if they are residing outside of the disaster area.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: August 14, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application. The waiver may be used for program participants affected by the disaster, even if they are residing outside of the disaster area.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: August 14, 2023.

Reason Waived: Waiving the requirement to obtain additional evidence of disability as provided in 24 CFR 578.103(a)(4)(i)(B)(4)) as specified above will allow recipient to house people impacted by wildfires in Hawaii by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

Mega-Waiver for Hawaii Wildfires—ESG

On August 14, 2023, Principal Deputy Assistant Secretary Marion McFadden issued a memorandum offering waivers of certain statutory and regulatory requirements associated with several Community Planning and Development (CPD) grant programs to address damage and facilitate recovery from wildfires in areas of Hawaii covered by a major disaster declaration under Title IV of the Robert T. Stafford Disaster Relief and Emergency Assistance Act (Stafford Act), DR-4724-HI, dated August 10, 2023, and as may be amended (the “declared-disaster areas”). The following summarizes the waivers available for ESG Program Recipients.

ESG—Term Limits on Rental Assistance and Housing Relocation and Stabilization Services

• Regulation: 24 CFR 576.106(a); 24 CFR 576.105(a)(5); 24 CFR 578.105(c) and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of wildfires in areas of Hawaii; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: August 14, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: August 14, 2023.

Reason Waived: HUD granted this waiver to enable ESG recipients to meet the critical housing needs of individuals and families whose housing was damaged or who were displaced as a result of wildfires in Hawaii. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: August 14, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: August 14, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: August 14, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of wildfires in Hawaii; 2. The individual or family is currently receiving ESG-funded rental assistance as the leaseholder or housing relocation stabilization services or begins receiving rental assistance or housing relocation stabilization services within two years after the date of the issuance of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: August 14, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

Mega-Waiver for Hurricane Idalia—CoC and YHDP

On September 18, 2023, Principal Deputy Assistant Secretary Marion McFadden issued a memorandum offering waivers of certain statutory and regulatory requirements associated with several Community Planning and Development (CPD) grant programs to address damage and facilitate recovery from Hurricane Idalia covered by a major disaster declaration under Title IV of the Robert T. Stafford Disaster Relief and Emergency Assistance Act (Stafford Act), DR-4734-FL, dated August 31, 2023, and as may be amended (the “declared-disaster areas”). The following summarizes the waivers available for CoC Program Recipients.

CoC and YHDP—Permanent Housing Rapid Re-Housing Limit to 24 Months of Rental Assistance

• Regulation: 24 CFR 578.37(a)(1)(ii), 24 CFR 578.37(a)(1)(ii)(C), and 24 CFR 578.51(a)(1)(i).

Project/Activity: For two years from the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver. The waiver may be used for program participants affected by the disaster, even if they are residing outside of the disaster area.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: September 18, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone (202) 708-4300.

CoC and YHDP—One Year Lease Requirement

• Regulation: 24 CFR 578.3, definition of permanent housing, 24 CFR 578.51(l)(1).

Project/Activity: The one-year lease requirement is waived for two years beginning on the date of the issuance of the waiver for program participants affected by the disaster, even if they are residing outside of the disaster area, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: September 18, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone (202) 708-4300.

CoC and YHDP—One-time Limit on Moving Costs

• Regulation: 24 CFR 578.53(e)(2).

Project/Activity: The one-time limit on moving costs of program participants is waived for two years beginning on the date of the issuance of the waiver for program participants affected by the disaster, even if they are residing outside of the disaster area.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: September 18, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone (202) 708-4300.

CoC and YHDP—Fair Market Rent (FMR) Cap on Rent Paid with Leasing Funds

• Regulation: 24 CFR 578.49(b)(2).

Project/Activity: The FMR restriction is waived for any lease executed by a recipient or subrecipient to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services. The waiver may be used for program participants affected by the disaster, even if they are residing outside of the disaster area.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: September 18, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone (202) 708-4300.

CoC and YHDP—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application. This waiver may be used for program participants affected by the disaster, even if they are residing outside of the disaster area.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: September 18, 2023.

Reason Waived: Waiving the requirement to obtain additional evidence of disability as provided in 24 CFR 578.103(a)(4)(i)(B)(4)) as specified above will allow recipient to house people impacted by Hurricane Idalia by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone (202) 708-4300.

Mega-Waiver for Hurricane Idalia—ESG

On September 18, 2023, Principal Deputy Assistant Secretary Marion McFadden issued a memorandum offering waivers of certain statutory and regulatory requirements associated with several Community Planning and Development (CPD) grant programs to address damage and facilitate recovery from Hurricane Idalia covered by a major disaster declaration under Title IV of the Robert T. Stafford Disaster Relief and Emergency Assistance Act (Stafford Act), DR-4734-FL, dated August 31, 2023, and as may be amended (the “declared-disaster areas”). The following summarizes the waivers available for ESG Program Recipients.

ESG—Term Limits on Rental Assistance and Housing Relocation and Stabilization Services

• Regulation: 24 CFR 576.106(a); 24 CFR 576.105(a)(5); 24 CFR 576.105(c); and 24 CFR 576.105(b)(2) Term limits on Rental Assistance and Housing Relocation and Stabilization Services

Project/Activity: The 24-month limits on rental assistance and housing relocation and stabilization services are waived for individuals and families who meet both of the following criteria: (1) the individual or family lives in a declared-disaster area or was displaced from a declared-disaster area as a result of Hurricane Idalia; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: September 18, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: September 18, 2023.

Reason Waived: HUD granted this waiver to enable ESG recipients to meet the critical housing needs of individuals and families whose housing was damaged or who were displaced as a result of Hurricane Idalia. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: 1. Each unit must still meet applicable state and local standards; 2. Each unit must be free of life-threatening conditions as defined in Notice PIH 2017-20 (HA); and 3. Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: September 18, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: September 18, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: September 18, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: 1. The individual or family lives in the declared-disaster area or was displaced from the declared-disaster area as a result of Hurricane Idalia; 2. The individual or family is currently receiving ESG-funded rental assistance as the leaseholder or housing relocation stabilization services or begins receiving rental assistance or housing relocation stabilization services within two years after the date of the issuance of the waiver; 3. The individual or family chooses to rent a unit through a legally valid sublease or lease with the primary leaseholder for the unit; and 4. The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: September 18, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone (202) 708-4300.

CoC Waivers

• Regulation: 24 CFR 578.75(b)(1).

Nature of Requirement: Regulations at 24 CFR 578.75(b)(1) require that the recipient or subrecipient must physically inspect each unit to assure that the unit meets HQS prior to providing assistance on behalf of the program participant.

Requesting organization: Housing Authority of the City of Los Angeles and Los Angeles County Development Authority

Grants Affected:

CA0335L9D002114 | CA1224L9D002109 | CA1500L9D002207 | CA0339L9D002114
CA0336L9D002114 | CA0328L9D002108 | CA1337L9D002208 | CA0365L9D002114
CA0783L9D002113 | CA0798L9D002113 | CA1106L9D002207 | CA0421L9D002114
CA0916L9D002112 | CA1339L9D002107 | CA1340L9D002208 | CA0465L9D002114
CA0917L9D002112 | CA0473L9D002114 | CA1492L9D002207 | CA0742L9D002114
CA1220L9D002109 | CA0799L9D002113 | CA1689L9D002205 | CA0792L9D002113
CA0407L9D002114 | CA0996L9D002107 | CA0997L9D002207 | CA0800L9D002113
CA1594L9D002105 | CA1049L9D002111 | CA0420L9D002215 | CA0860L9D002107
CA1341L9D002107 | CA1050L9D002111 | CA0920L9D002213 | CA0913L9D002112
CA1491L9D002106 | CA0329L9D002108 | CA0438L9D002215 | CA0914L9D002112
CA0391L9D002114 | CA0474L9D002114 | CA0444L9D002215 | CA0915L9D002112
CA0392L9D002114 | CA0995L9D002106 | CA0445L9D002215 | CA0998L9D002106
CA0395L9D002114 | CA1595L9D002105 | CA1110L9D002207 | CA1046L9D002111
CA0324L9D002109 | CA1490L9D002106 | CA0464L9D002215 | CA1104L9D002105
CA0393L9D002114 | CA1112L9D002106 | CA0797L9D002214 | CA1109L9D002105
CA0405L9D002114 | CA0519L9D002114 | CA1051L9D002212 | CA1157L9D002110
CA0862L9D002107 | CA0923L9D002112 | CA1217L9D002210 | CA1158L9D002110
CA1500L9D002106 | CA0335L9D002215 | CA1224L9D002210 | CA0920L9D002112
CA1337L9D002107 | CA0336L9D002215 | CA0798L9D002214 | CA0438L9D002114
CA1106L9D002106 | CA0783L9D002214 | CA1339L9D002208 | CA0444L9D002114
CA1340L9D002107 | CA0916L9D002213 | CA0473L9D002215 | CA0445L9D002114
CA1492L9D002106 | CA0917L9D002213 | CA0799L9D002214 | CA1110L9D002106
CA1689L9D002104 | CA1220L9D002210 | CA0996L9D002208 | CA0464L9D002114
CA0997L9D002106 | CA0407L9D002215 | CA1049L9D002212 | CA0797L9D002113
CA0420L9D002114 | CA1594L9D002206 | CA1050L9D002212 | CA1051L9D002111
CA1217L9D002109 | CA1219L9D002210 | CA1342L9D002208 | CA1046L9D002212
CA1504L9D002207 | CA0465L9D002215 | CA1159L9D002211 | CA0329L9D002209
CA1343L9D002208 | CA0339L9D002215 | CA1505L9D002207 | CA0474L9D002215
CA1344L9D002208 | CA0792L9D002214 | CA1218L9D002210 | CA0995L9D002207
CA0519L9D002215 | CA0998L9D002207 | CA1158L9D002211 | CA1595L9D002206
CA0923L9D002213 | CA0742L9D002215 | CA1157L9D002211 | CA1490L9D002207
CA1109L9D002206 | CA1112L9D002207 | CA1159L9D002110 | CA1597L9D002105
CA1503L9D002207 | CA1502L9D002106 | CA1218L9D002109 | CA1687L9D002104
CA1341L9D002208 | CA1503L9D002106 | CA1219L9D002109 | CA1688L9D002104
CA1491L9D002207 | CA1504L9D002106 | CA1342L9D002107 | CA0365L9D002215
CA0391L9D002215 | CA1505L9D002106 | CA1343L9D002107 | CA0914L9D002213
CA0392L9D002215 | CA1596L9D002105 | CA1344L9D002107 | CA0405L9D002215
CA0395L9D002215 | CA0324L9D002210 | CA0393L9D002215 |

Project/Activity: Homelessness in Los Angeles County is at crisis levels with over 66,000 unsheltered individuals as of the last regional homeless count in early 2022. Unsheltered individuals have a significantly increased risk of mortality; the LA Times reported that an average of five people experiencing homelessness died on the streets of LA each day in 2022. The Mayor of the City of Los Angeles and the Los Angeles County Board of Supervisors declared states of emergency on homelessness for their jurisdictions and are seeking ways to house individuals and families experiencing homelessness as quickly as possible. The inspection process for units currently takes approximately two weeks and can prevent individuals from leasing-up apartments given the tight rental market.

Granted By: Marion McFadden, Principal Deputy Assistant Secretary for Community Planning and Development.

Date Granted: September 1, 2023.

Reason Waived: Waiving the requirement for an initial unit inspection assists people experiencing homelessness to move into housing in an expedient manner and is crucial to ending the homelessness crisis in Los Angeles.

Contact: Norm Suchar, Director, Office of Special Needs Assistance Programs, Office of Community Planning and Development, Department of Housing and Urban Development, 451 Seventh Street SW, Room 7262, Washington, DC 20410, telephone (202) 708-4300.

• Regulation: 24 CFR 578.103(a)(7).

Nature of Requirement: Regulations at 24 CFR 578.103(a)(7) require that, for each program participant who receives housing assistance where rent or an occupancy charge is paid by the program participant, the recipient or subrecipient must collect and keep documentation of the program participant's income. The regulation establishes an order of preference for the type of documentation that recipients or subrecipients can rely on.

Requesting Organization: Housing Authority of the City of Los Angeles and Los Angeles County Development Authority.

Grants Affected:

CA0335L9D002114 | CA1224L9D002109 | CA1500L9D002207 | CA0339L9D002114
CA0336L9D002114 | CA0328L9D002108 | CA1337L9D002208 | CA0365L9D002114
CA0783L9D002113 | CA0798L9D002113 | CA1106L9D002207 | CA0421L9D002114
CA0916L9D002112 | CA1339L9D002107 | CA1340L9D002208 | CA0465L9D002114
CA0917L9D002112 | CA0473L9D002114 | CA1492L9D002207 | CA0742L9D002114
CA1220L9D002109 | CA0799L9D002113 | CA1689L9D002205 | CA0792L9D002113
CA0407L9D002114 | CA0996L9D002107 | CA0997L9D002207 | CA0800L9D002113
CA1594L9D002105 | CA1049L9D002111 | CA0420L9D002215 | CA0860L9D002107
CA1341L9D002107 | CA1050L9D002111 | CA0920L9D002213 | CA0913L9D002112
CA1491L9D002106 | CA0329L9D002108 | CA0438L9D002215 | CA0914L9D002112
CA0391L9D002114 | CA0474L9D002114 | CA0444L9D002215 | CA0915L9D002112
CA0392L9D002114 | CA0995L9D002106 | CA0445L9D002215 | CA0998L9D002106
CA0395L9D002114 | CA1595L9D002105 | CA1110L9D002207 | CA1046L9D002111
CA0324L9D002109 | CA1490L9D002106 | CA0464L9D002215 | CA1104L9D002105
CA0393L9D002114 | CA1112L9D002106 | CA0797L9D002214 | CA1109L9D002105
CA0405L9D002114 | CA0519L9D002114 | CA1051L9D002212 | CA1157L9D002110
CA0862L9D002107 | CA0923L9D002112 | CA1217L9D002210 | CA1158L9D002110
CA1500L9D002106 | CA0335L9D002215 | CA1224L9D002210 | CA0920L9D002112
CA1337L9D002107 | CA0336L9D002215 | CA0798L9D002214 | CA0438L9D002114
CA1106L9D002106 | CA0783L9D002214 | CA1339L9D002208 | CA0444L9D002114
CA1340L9D002107 | CA0916L9D002213 | CA0473L9D002215 | CA0445L9D002114
CA1492L9D002106 | CA0917L9D002213 | CA0799L9D002214 | CA1110L9D002106
CA1689L9D002104 | CA1220L9D002210 | CA0996L9D002208 | CA0464L9D002114
CA0997L9D002106 | CA0407L9D002215 | CA1049L9D002212 | CA0797L9D002113
CA0420L9D002114 | CA1594L9D002206 | CA1050L9D002212 | CA1051L9D002111
CA1217L9D002109 | CA1219L9D002210 | CA1342L9D002208 | CA1046L9D002212
CA1504L9D002207 | CA0465L9D002215 | CA1159L9D002211 | CA0329L9D002209
CA1343L9D002208 | CA0339L9D002215 | CA1505L9D002207 | CA0474L9D002215
CA1344L9D002208 | CA0792L9D002214 | CA1218L9D002210 | CA0995L9D002207
CA0519L9D002215 | CA0998L9D002207 | CA1158L9D002211 | CA1595L9D002206
CA0923L9D002213 | CA0742L9D002215 | CA1157L9D002211 | CA1490L9D002207
CA1109L9D002206 | CA1112L9D002207 | CA1159L9D002110 | CA1597L9D002105
CA1503L9D002207 | CA1502L9D002106 | CA1218L9D002109 | CA1687L9D002104
CA1341L9D002208 | CA1503L9D002106 | CA1219L9D002109 | CA1688L9D002104
CA1491L9D002207 | CA1504L9D002106 | CA1342L9D002107 | CA0365L9D002215
CA0391L9D002215 | CA1505L9D002106 | CA1343L9D002107 | CA0914L9D002213
CA0392L9D002215 | CA1596L9D002105 | CA1344L9D002107 | CA0405L9D002215
CA0395L9D002215 | CA0324L9D002210 | CA0393L9D002215 |

Project/Activity: The preferred method of documenting income is source documentation. If source documents are unobtainable, a written statement by the relevant third party or the written certification of the recipient's or subrecipient's intake staff of the relevant third party's oral verification of the income the program participant received over the most recent period is required. Regulations allow that, to the extent that source documents and third-party verification are unobtainable, the program participant can self-certify their anticipated income for the next three months. The requirement at 24 CFR 578.103(a)(7) to first seek source documentation and third-party verification of income is waived for existing grants with the grant numbers listed to allow the recipients to self-certify the income the program participant expects to receive over the 3-month period.

Granted By: Marion McFadden, Principal Deputy Assistant Secretary for Community Planning and Development.

Date Granted: September 1, 2023.

Reason Waived: Individuals experiencing homelessness are unlikely to have the required documentation for annual income readily available and this documentation can be difficult to obtain quickly. Waiving the requirement to first seek source documentation and third-party verification of income will streamline the annual income process, allowing HACLA and LACDA to house individuals more quickly.

Contact: Norm Suchar, Director, Office of Special Needs Assistance Programs, Office of Community Planning and Development, Department of Housing and Urban Development, 451 Seventh Street SW, Room 7262, Washington, DC 20410, telephone (202) 708-4300.

Fair Market Rent (FMR) Cap on Rent Paid with Leasing Funds

• Regulation: 24 CFR 578.49(b)(2).

Nature of Requirement: CoC Program regulations at 24 CFR 578.49(b)(2) states, “When grants are used to pay rent for individual housing units, the rent paid must be reasonable in relation to rents being charged for comparable units, taking into account the location, size, type, quality, amenities, facilities, and management services. In addition, the rents may not exceed rents currently being charged for comparable units, and the rent paid may not exceed HUD-determined fair market rents.”

Requesting Organization: St. Vincent's Medical Center.

Grants Affected: CT0083L1E032215 and CT0041L1E032215.

Project/Activity: Regulations at 24 CFR 578.49(b)(2) require that leasing funds used to pay rent may not exceed the HUD-determined fair market rent in place at the time of lease execution. The above organization requested a waiver of the FMR requirements at 24 CFR 578.49(b)(2) so that it may provide CoC Program Permanent Supportive Housing assistance to program participants in housing units with rents that exceed the FMR amount for the Bridgeport, CT Metro Area but meet the reasonable rent standards. This waiver is necessary because the Bridgeport service area continues to see inflationary increases in housing costs, resulting in the lack of safe affordable rental options. Additionally, existing leases are seeing rent increases that exceed FMR at lease renewal.

Granted By: Marion McFadden, Principal Deputy Assistant Secretary for Community Planning and Development.

Date Granted: September 1, 2023.

Reason Waived: The organization sufficiently documented the recipient's inability to adequately house program participants under the current rental market conditions within the Bridgeport, CT HUD Metropolitan area using current FMR restrictions. The organization may use leasing funds to pay 100% of the cost of rent for units with gross rents that exceed HUD established FMR rates, so long as the gross rent reasonable rent standards are met.

Contact: Norm Suchar, Director, Office of Special Needs Assistance Programs, Office of Community Planning and Development, Department of Housing and Urban Development, 451 Seventh Street SW, Room 7262, Washington, DC 20410, telephone (202) 708-4300.

ESG Waivers

A. Extension of ESG-CV Expenditure Deadline

• Regulation: Section V.A.1 of Notice CPD-22-06.

Requestor: Allegheny County.

Project/Activity: HUD granted a waiver of the September 30, 2023, deadline that Section V.A.1 of Notice CPD-22-06 established for completing all ESG-CV expenditures, except for certain closeout-related expenditures and expenditures of reallocated ESG-CV amounts, in the September 27, 2023 memorandum: Allegheny County's Request for Waiver of ESG-CV Expenditure Deadline Established by Notice CPD-22-06, Section V.A.1. HUD waived the applicable requirements to the extent necessary to specify an alternative requirement that the recipient shall expend all ESG-CV funding by December 31, 2023.

Nature of Requirement: Section V.A.1 of Notice CPD-22-06 established a deadline of September 30, 2023 for completing all ESG-CV expenditures, except for certain closeout-related expenditures and expenditures of reallocated ESG-CV amounts.

Granted By: Marion M. McFadden, Principal Deputy Assistant Secretary for Community Planning and Development.

Date Granted: September 27, 2023.

Reason Waived: Waiving the September 30, 2023 expenditure deadline is necessary to prevent, prepare for, and respond to coronavirus, because the rate of COVID-19 infections has increased dramatically in the past several weeks in Allegheny County and is projected to increase through the fall. The recipient's emergency shelter renovation project is needed to add 25 new emergency shelter beds for individuals experiencing unsheltered homelessness within the community.

Contact: Norm Suchar, Director, Office of Special Needs Assistance Programs, Office of Community Planning and Development, Department of Housing and Urban Development, 451 Seventh Street SW, Room 7262, Washington, DC 20410, telephone (202) 708-4300.

Extension of ESG-CV Expenditure Deadline

• Regulation: Section V.A.1 of Notice CPD-22-06.

Requestor: State of California.

Project/Activity: HUD granted a waiver of the September 30, 2023, deadline that Section V.A.1 of Notice CPD-22-06 established for completing all ESG-CV expenditures, except for certain closeout-related expenditures and expenditures of reallocated ESG-CV amounts, in the September 29, 2023 memorandum: State of California's Request for Waiver of ESG-CV Expenditure Deadline Established by Notice CPD-22-06, Section V.A.1. HUD waived the applicable requirements to the extent necessary to specify an alternative requirement that the recipient shall expend all ESG-CV funding by June 30, 2024.

Nature of Requirement: Section V.A.1 of Notice CPD-22-06 established a deadline of September 30, 2023 for completing all ESG-CV expenditures, except for certain closeout-related expenditures and expenditures of reallocated ESG-CV amounts.

Granted By: Marion M. McFadden, Principal Deputy Assistant Secretary for Community Planning and Development.

Date Granted: September 29, 2023.

Reason Waived: Waiving the September 30, 2023 expenditure deadline is necessary to prevent, prepare for, and respond to coronavirus, not only because of the increasing number of coronavirus infections and hospitalizations in the State of California, but also because of the 6 percent rise in homelessness in the State from 2020 through 2022.

Contact: Norm Suchar, Director, Office of Special Needs Assistance Programs, Office of Community Planning and Development, Department of Housing and Urban Development, 451 Seventh Street SW, Room 7262, Washington, DC 20410, telephone (202) 708-4300.

II. Regulatory Waivers Granted by the Office of Housing—Federal Housing Administration (FHA)

For further information about the following regulatory waivers, please see the name of the contact person that immediately follows the description of the waiver granted.

• Regulation: 24 CFR 200.54(b) Property Development, 2023.

Project/Activity: Extension of Partial Waiver of Requirement of 24CFR 200.54(b)—Multifamily Loan Disbursements.

Nature of Requirement: The regulation requires A partial waiver of the “. . . must be disbursed in full . . .” requirement is necessary for the covered projects to allow mortgagees to securitize the initial draw contemporaneously with borrower equity funding to establish the mortgage-backed security and fulfill investor trade agreements. The initial FHA-insured draw cannot not exceed one half percent (0.5%) of the initially endorsed loan amount. In practice, this initial draw is typically $25,000. The Department requires, in 24 CFR 200.54(b), that “funds provided by the mortgagor under requirements of this section must be disbursed in full for project work, material, and incidental charges and expenses before disbursement of any mortgage proceeds. . . .” Essentially, borrower equity is required to be fully disbursed before the disbursement of any mortgage proceeds. Typically, all borrower equity is already disbursed prior to Loan proceeds, as part of the initial draw. For certain projects, the amount of Borrower equity exceeds the amount of the initial draw to be disbursed at time of endorsement. This presents a timing challenge because disbursing the equity as construction activity occurs will take up to two months and mortgage draw activity must be postponed in the meantime.

Granted By: Julia R. Gordon, Assistant Secretary for Housing—Federal Housing Commissioner, Office of Housing.

Date Granted: July 5, 2023.

Reason Waived: The extension continues the waiver of the requirement that an agreement acceptable to the Commissioner shall require that funds provided by the mortgagor must be disbursed in full for project work, material, and incidental charges, and expenses before disbursement of any mortgage proceeds. This partial waiver is being issued to allow the timely issuance of securities guaranteed by the Government National Mortgage Association and is limited to projects insured under Sections 213 and 221(d)(4) of the National Housing Act. Without the partial waiver, lenders may be unable to securitize loans or may be forced to implement unusual and burdensome servicing practices to maintain compliance with the regulation. The contract between mortgage lender and investor has affirmative delivery dates; the initial securitized draw cannot be delayed or contingent on borrower equity disbursements.

Contact: Willie Fobbs III, Director, Office of Multifamily Production, Office of Housing, Department of Housing and Urban Development, 451 Seventh Street SW, Room 6134, Washington, DC 20410, telephone (202) 402-6257.

• Regulation: 24 CFR 242.72.

Project/Activity: Onslow County Hospital Authority.

Nature of Requirement: 24 CFR 242.72 prohibits the leasing of a hospital by a proposed borrower that seeks insurance through the FHA's Section 242 program.

Granted By: Julia R. Gordon, Assistant Secretary for Housing—Federal Housing Commissioner, Office of Housing.

Date Granted: August 11, 2023.

Reason Waived: Through its Lender, Onslow County Healthcare Authority (OCHA), located in Jacksonville, North Caroline, applied for Section 241 supplemental mortgage insurance. OCHA leases property to Onslow Memorial Hospital (the Hospital), to operate a 162-bed general acute care hospital. A Regulatory Waiver 24 CFR § 242.72 is required to close the proposed loan because OCHA is the Borrower and owns the hospital facility, but does not operate the facility.

The waiver is necessary and appropriate in this narrow case, as the Hospital and OCHA are closely related entities (the Hospital is a component unit of OCHA). The two entities are functionally the same (with the same management team and Board of Directors). The Office of General Counsel has reviewed this request and has concurred. Legal documents signed at closing will include controls and protections that guard against the risk of lease arrangements. The Office of Healthcare Programs is comfortable allowing the waiver due to the relationship between OCHA and the Hospital, the creation of the appropriate legal documents, as well as the strength and history of OCHA and the Hospital. OCHA has one outstanding Section 242 loan, closed in 2006, using this same structure.

Contact: Paul Giaudrone, Underwriting Director, Office of Hospital Facilities, Office of Healthcare Programs, Office of Housing, Department of Housing and Urban Development, 451 Seventh Street SW, Washington DC 20410, telephone (202) 402-5684.

• Regulation: 24 CFR 290.30(a).

Project/Activity: The owner of O'Fallon Place 1A Apartments, located in St. Louis, Missouri requests HUD approval of the note sale of two underlying HUD-held mortgages secured by the project to Missouri Housing Development Corporation (MHDC), a unit of local government, on a non-competitive, negotiated basis.

Nature of Requirement: HUD is required to sell HUD-held Notes on a competitive basis pursuant to 24 CFR 290.30(a). However, as an exception to this requirement, 24 CFR 290.31(a)(2), permits “negotiated” sales to state of local governments for current mortgages securing subsidized projects, provided that loans are sold with FHA insurance.

Granted By: Julia R. Gordon, Assistant Secretary for Housing—Federal Housing Commissioner, Office of Housing.

Date Granted: August 10, 2023.

Reason Waived: To facilitate the sale of the two HUD-held Notes a waiver of 24 CFR 290.30(a), which requires the HUD-held multifamily mortgages to be sold competitively, is needed. This waiver will allow HUD to accept the non-competitive bid made by MHDC and will allow the pay-off of the HUD-held Notes to facilitate the continued redevelopment of the project. Further, granting this waiver will ensure that the Department obtains payment in full of the HUD-held Notes and the preservation of this affordable housing. The waiver of 24 CFR 290.30(a) does not violate any statutory requirements, and the review findings constitute good cause for the waiver, as required by 24 CFR 5.110.

Contact: Thomas R. Davis, Director of Office of Recapitalization, Office of Housing, Department of Housing and Urban Development, 451 Seventh Street SW, Room 6228, Washington, DC 20410, telephone (202) 402-7549.

• Regulation: 24 CFR 880.608.

Project/Activity: The owner requested a waiver of 24 CFR 880.608 in order to enable the owner to participate in a 3-year study conducted by Fannie Mae to assess whether tenant payment of a security deposit has any effect on property performance.

Nature of Requirement: An owner participating in certain project-based Section 8 rental assistance programs administered by the Office of Housing must require the payment of a security deposit by each family selected to reside in an assisted unit, at the time of initial execution of the lease.

Granted By: Julia R. Gordon, Assistant Secretary for Housing—Federal Housing Commissioner, Office of Housing.

Date Granted: July 31, 2023.

Reason Waived: The Office of Housing found that it is in the public interest to allow for a time-limited study that will generate a data-driven assessment of the effects on tenants, owners, and properties from relieving tenants of the burden of paying a security deposit. The waiver covers 64 properties.

Contact: Jennifer Lavorel, Director, Office of Asset Management Portfolio Oversite, Office of Housing, Department of Housing and Urban Development, 451 Seventh Street SW, Room 6180, Washington DC 20410, telephone (202) 402-2515.

III. Regulatory Waivers Granted by the Office of Public and Indian Housing

For further information about the following regulatory waivers, please see the name of the contact person that immediately follows the description of the waiver granted.

Regulation: 24 CFR 5.801(d)(1) and 24 CFR 902.62(a)(3).

Nature of Requirement: The regulation establishes certain reporting compliance dates. In accordance with 24 CFR 5.801(d)(1), agencies are to submit their audited financial statements no later than nine months after the fiscal year end, otherwise agencies receive a late presumptive failure (LPF) score of zero pursuant to 24 CFR 902.62(a)(3).

Project/Activity: Richmond Redevelopment & Housing Authority (RRHA).

Granted By: Richard Monocchio, Principal Deputy Assistant Secretary for Public and Indian Housing.

Date Granted: July 20, 2023.

Reason Waived: HUD granted RRHA additional time to submit its audited financial statements due to unforeseen circumstances. HUD granted RRHA anadditional 92 days from the due date of June 30, 2023, and has until September 30, 2023, to complete and submit its FYE September 30, 2022, audited financial information to the Department without receiving an LPF score.

Contact: Lara Philbert, Housing Programs Specialist, Office of Public and Indian Housing, Department of Housing and Urban Development, 451 Seventh Street SW, Washington DC 20410, telephone (202) 475-8930.

• Regulation: 24 CFR 905.400(i)(5)(i).

Nature of Requirement: 24 CFR 905.400(i)(5)(i), requires that PHAs use RHF grant funds only for the development of public housing units. Consequently, RHF cannot be used to renovate vacant public housing units or for any modernization unless the Department grants a waiver of 24 CFR 905.400(i)(5)(i) for good cause.

Project/Activity: New York City Housing Authority (NYCHA).

Granted By: Richard Monocchio, Principal Deputy Assistant Secretary for Public and Indian Housing.

Date Granted: August 28, 2023.

Reason Waived: HUD found that the funds available were inadequate to develop new public housing units within the expenditure deadline and NYCHA's proposed alternative use for this funding will meet important modernization needs at these public housing properties. HUD approved NYCHA's request for a waiver of 24 CFR 905.400(i)(5)(i) for the use of RHF funds to pay for modernization work.

Contact: David Fleishman, Housing Programs Specialist, Office of Public and Indian Housing, Department of Housing and Urban Development, 451 Seventh Street SW, Room 4148, Washington DC 20410, telephone (202) 402-2071.

• Regulation: 24 CFR 5.801(d)(1) and 24 CFR 902.62(a)(3).

Nature of Requirement: The regulation establishes certain reporting compliance dates. In accordance with 24 CFR 5.801(d)(1), agencies are to submit their audited financial statements no later than nine months after the fiscal year end, otherwise agencies receive a late presumptive failure (LPF) score of zero pursuant to 24 CFR 902.62(a)(3).

Project/Activity: DuPage Housing Authority (DHA).

Granted By: Richard Monocchio, Principal Deputy Assistant Secretary for Public and Indian Housing.

Date Granted: September 13, 2023.

Reason Waived: DHA indicates that its previous auditor abruptly quit without written notification. The newly contracted auditor, cannot complete the HUD audit by the deadline. HUD granted DHA until September 30, 2023, to submit its audited financial information to the Department.

Contact: Lara Philbert, Housing Programs Specialist, Office of Public and Indian Housing, Department of Housing and Urban Development, 451 Seventh Street SW, Washington DC 20410, telephone (202) 475-8930.

• Regulation: 24 CFR 5.801(d)(1) and 24 CFR 902.62(a)(3).

Nature of Requirement: The regulation establishes certain reporting compliance dates. In accordance with 24 CFR 5.801(d)(1), agencies are to submit their audited financial statements no later than nine months after the fiscal year end, otherwise agencies receive a late presumptive failure (LPF) score of zero pursuant to 24 CFR 902.62(a)(3).

Project/Activity: Northern Marianas Housing Corporation (TQ901).

Granted By: Richard Monocchio, Principal Deputy Assistant Secretary for Public and Indian Housing.

Date Granted: September 13, 2023.

Reason Waived: NMHC indicates that its previous auditor unexpectedly withdrew from the FY 2022 audit engagement and its new auditor cannot complete and submit audited financial information to HUD by the due date. NMHC is requesting additional time due to this unforeseen circumstance. HUD granted an additional 123 days from the due date of June 30, 2023, and has until October 31, 2023, for NMHC to complete and submit its audited financial information for the FYE September 31, 2022, to the Department.

Contact: Lara Philbert, Housing Programs Specialist, Office of Public and Indian Housing, Department of Housing and Urban Development, 451 Seventh Street SW, Washington DC 20410, telephone (202) 475-8930.

• Regulation: 24 CFR 5.801(d)(1).

Nature of Requirement: The regulation establishes certain reporting compliance dates. In accordance with 24 CFR 5.801(d)(1), agencies are to submit their audited financial statements no later than nine months after the fiscal year end.

Project/Activity: Potter County Housing and Redevelopment Authority (PCHRA).

Granted By: Richard Monocchio, Principal Deputy Assistant Secretary for Public and Indian Housing.

Date Granted: September 13, 2023.

Reason Waived: PCHRA had to hire a new auditor suddenly due to unforeseen circumstances. HUD granted an additional 183 days, and has until September 30, 2023, to complete and submit its FYE June 30, 2022, audited financial information to the Department.

Contact: Lara Philbert, Housing Programs Specialist, Office of Public and Indian Housing, Department of Housing and Urban Development, 451 Seventh Street SW, Washington, DC 20410, telephone (202) 475-8930.

• Regulation: 24 CFR 5.801(d)(1) and 24 CFR 902.62(a)(3).

Nature of Requirement: The regulation establishes certain reporting compliance dates. In accordance with 24 CFR 5.801(d)(1), agencies are to submit their audited financial statements no later than nine months after the fiscal year end, otherwise agencies receive a late presumptive failure (LPF) score of zero pursuant to 24 CFR 902.62(a)(3).

Project/Activity: Pinal County Housing Authority (AZ010).

Granted By: Richard Monocchio, Principal Deputy Assistant Secretary for Public and Indian Housing.

Date Granted: September 13, 2023.

Reason Waived: PCHA indicates that its financial responsibilities have been delayed due to an unexpected staff change and its audit will not be complete by March 31, 2023. HUD granted PCHA until September 30, 2023, to complete and submit its audited financial information to the Department.

Contact: Lara Philbert, Housing Programs Specialist, Office of Public and Indian Housing, Department of Housing and Urban Development, 451 Seventh Street SW, Washington, DC 20410, telephone (202) 475-8930.

• Regulation: 24 CFR 905.322(b)(1)(ii).

Nature of Requirement: Per 24 CFR 905.322(b)(1)(ii), the Actual Modernization Cost Certificate (AMCC) for each grant is due no later than 12 months after the expenditure deadline, but no earlier than the obligation end date.

Project/Activity: Housing Authority of the City of Decatur (HACD).

Granted By: Richard Monocchio, Principal Deputy Assistant Secretary for Public and Indian Housing.

Date Granted: August 16, 2023.

Reason Waived: HUD determined that HACD's request provided good cause for a waiver to submit the AMCC earlier than the obligation end date, and as such, approves a waiver of 24 CFR 905.322(b)(1)(ii) for HACD.

Contact: David Fleishman, Housing Programs Specialist, Office of Public and Indian Housing, Department of Housing and Urban Development, 451 Seventh Street SW, Room 4148, Washington, DC 20410, telephone (202) 402-2071.

• Regulation: 24 CFR 983.301(f)(2)(ii); 24 CFR 982.517.

Nature of Requirement: 24 CFR 982.517 requires that a housing authority maintain a utility allowance schedule for all tenant-paid utilities, and the utility allowance schedule must be determined based on the typical cost of utilities and services paid by energy-conservation households that occupy units of similar size and type in the same locality. 24 CFR 983.301(f)(2)(ii) requires that housing authorities may not establish or apply different utility allowance amounts for the project-based voucher (PBV) program, and that the same housing authority utility allowance schedule applies to both tenant-based and PBV programs.

Project/Activity: New Bedford Housing Authority (NBHA).

Granted By: Richard Monocchio, Principal Deputy Assistant Secretary for Public and Indian Housing.

Date Granted: August 3, 2023.

Reason Waived: HUD determined that there is good cause to waive the regulation as the utility allowance under the HCV program would discourage conservation and lead to inefficient use of HAP funds.

Contact: Nathaniel Johnson, Housing Programs Specialist, Office of Public and Indian Housing, Department of Housing and Urban Development, 451 Seventh Street SW, Washington, DC 20410, telephone (202) 402-2071.

• Regulation: 24 CFR 1000.336(d).

Nature of Requirement: The regulation states that the deadline for submitting a challenge to the Census data used in computing the FY 2025 IHBG formula allocation is March 30, 2024.

Project/Activity: Indian Housing Block Grant (IHBG).

Granted By: Richard Monocchio, Principal Deputy Assistant Secretary for Public and Indian Housing.

Date Granted: September 19, 2023.

Reason Waived: The IHBG regulation at 24 CFR 1000.336(d) requires that Tribes and Tribally Designated Housing Entities (TDHEs) submit documentation supporting Census challenges by March 30th to be considered for the upcoming fiscal year allocation. However, the Census data used for computing the FY 2025 IHBG formula allocation will not be available until September 29, 2023, which is 120 days after the June 1, 2023, standard deadline for distributing this data to Tribes and TDHEs. As such, good cause exists to provide additional time for Tribes and TDHEs to accommodate the delay in data. Therefore, a waiver of the Census Challenge deadline and an extension of the deadline to July 29, 2024, were granted to provide Tribes and TDHEs with a similar amount of time as they had in prior fiscal years to review their Census data.

Contact: Heidi Frechette, Office of Public and Indian Housing, Department of Housing and Urban Development, 451 Seventh Street SW, Room 4148, Washington, DC 20410, telephone (202) 402-2071, Heidi.Frechette@hud.gov.

• Regulation: 24 CFR 5.801(d)(1) and 24 CFR 902.62(a)(3).

Nature of Requirement: The regulation establishes certain reporting compliance dates. In accordance with 24 CFR 5.801(d)(1), agencies are to submit their audited financial statements no later than nine months after the fiscal year end, otherwise agencies receive a late presumptive failure (LPF) score of zero pursuant to 24 CFR 902.62(a)(3).

Project/Activity: Housing Authority of the City of St. Albans (HACS).

Granted By: Richard Monocchio, Principal Deputy Assistant Secretary for Public and Indian Housing.

Date Granted: September 28, 2023.

Reason Waived: HACS stated that after Executive Director turnover, issues were identified surrounding the files, maintenance, resident relations, computers, and health and safety hazards. Therefore, HACS was granted an additional 92 days from the due date of September 30, 2023. HACS was granted until December 31, 2023, to complete and submit its FYE December 31, 2022, audited financial information to the Department without receiving an LPF.

Contact: Lara Philbert, Housing Programs Specialist, Office of Public and Indian Housing, Department of Housing and Urban Development, 451 Seventh Street SW, Washington, DC 20410, telephone (202) 475-8930.

• Regulation: 24 CFR 982.505(c)(4) Increase in Payment Standard During Housing Assistance Payment (HAP) Contract Term.

Nature of Requirement: PHAs may request an extension of the option to increase the payment standard for the family at any time after the effective date of the increase, rather than waiting for the next regular reexamination.

Project/Activity: Notice PIH 2022-30 Extension of Certain Regulatory Waivers for the Housing Choice Voucher (including Mainstream) Program and Streamlined Review Process.

Granted By: Dominique Blom, General Deputy Assistant for Public and Indian Housing.

Reason Waived: Under Notice PIH 2022-30, PHAs can apply for certain regulatory waivers that were originally offered as part of the CARES Act waivers in Notice PIH 2021-14 to provide flexibility during the pandemic recovery. HUD expeditiously responded to these waiver requests in accordance with Section 106 of the Department of Housing and Urban Development Reform Act of 1989.

Contact: Tesia Anyanaso, Office of Field Operations/Coordination and Compliance Division, Office of Public and Indian Housing, 451 Seventh Street SW, Suite 3180, Washington, DC 20410, or email PIH_Expedited_Waivers@hud.gov.

Code | PHA name | Extension approved
AR004 | Housing Authority of the City of Little Rock | 7/25/2023
CO049 | Lakewood Housing Authority | 8/1/2023
FL005 | Miami-Dade Housing Agency | 8/16/2023
FL139 | Winter Haven Housing Authority | 7/7/2023
IL101 | DuPage Housing Authority | 8/1/2023
IN002 | Vincennes Housing Authority | 9/20/2023
IN037 | Mount Vernon Housing Authority | 7/25/2023
IN080 | Housing Authority of the City of Noblesville | 9/20/2023
MA022 | Malden Housing Authority | 8/16/2023
MA075 | Reading Housing Authority | 7/25/2023
MA085 | Amherst Housing Authority | 8/25/2023
NJ099 | Bloomfield Township HA | 8/1/2023
NM050 | Housing Authority of the County of Santa Fe | 7/25/2023
NY001 | Syracuse Housing Authority | 8/1/2023
OH042 | Geauga Metropolitan Housing Authority | 7/25/2023
TX027 | McKinney Housing Authority | 9/20/2023
TX062 | Edinburg Housing Authority | 8/1/2023
UT021 | St. George Housing Authority | 9/25/2023
VA018 | Franklin Redevelopment And Housing Authority | 8/11/2023
VA025 | Suffolk Redevelopment And Housing Authority | 7/25/2023
VT005 | Barre Housing Authority | 9/20/2023
WA054 | HA of Pierce County | 8/25/2023
WI214 | Dane County Housing Authority | 9/25/2023
WV005 | Housing Authority of the City of Parkersburg | 7/25/2023

• Regulation: 24 CFR 982.503(b) Voucher Tenancy: New Payment Standard Amount.

Nature of Requirement: PHAs may request an extension of expedited waiver(s) to allow for establishment of payment standards from 111 to 120 percent of the FMR.

Project/Activity: Notice PIH 2022-30 Extension of Certain Regulatory Waivers for the Housing Choice Voucher (including Mainstream) Program and Streamlined Review Process.

Granted By: Dominique Blom, General Deputy Assistant for Public and Indian Housing.

Reason Waived: Under Notice PIH 2022-30, PHAs can apply for certain regulatory waivers that were originally offered as part of the CARES Act waivers in Notice PIH 2021-14 to provide flexibility during the pandemic recovery. HUD expeditiously responded to these waiver requests in accordance with Section 106 of the Department of Housing and Urban Development Reform Act of 1989.

Contact: Tesia Anyanaso, Office of Field Operations/Coordination and Compliance Division, Office of Public and Indian Housing, 451 Seventh Street SW, Suite 3180, Washington, DC 20410, or email PIH_Expedited_Waivers@hud.gov.

PHAs:

Code | PHA name | 2023 extension approved
AR004 | Housing Authority of the City of Little Rock | 7/25/2023
CO040 | Delta Housing Authority | 8/25/2023
CO049 | Lakewood Housing Authority | 8/1/2023
FL005 | Miami-Dade Housing Agency | 8/16/2023
FL071 | Lake Wales Housing Authority | 9/29/2023
FL139 | Winter Haven Housing Authority | 7/25/2023
IA130 | Upper Explorer land Regional Housing Authority | 8/16/2023
IL101 | DuPage Housing Authority | 8/1/2023
IL107 | Housing Authority of the City of North Chicago, IL | 8/16/2023
IN037 | Mount Vernon Housing Authority | 7/25/2023
IN080 | Housing Authority of the City of Noblesville | 9/20/2023
MA022 | Malden Housing Authority | 8/16/2023
MA075 | Reading Housing Authority | 7/25/2023
MA085 | Amherst Housing Authority | 8/25/2023
MO037 | Housing Authority of the City of West Plains | 9/20/2023
NJ099 | Bloomfield Township HA | 8/1/2023
NJ212 | Hamilton Township HA | 7/25/2023
NM020 | Housing Authority of the City of Truth Or Consequences | 7/25/2023
NM050 | Housing Authority of the County of Santa Fe | 7/25/2023
NY001 | Syracuse Housing Authority | 8/1/2023
OH042 | Geauga Metropolitan Housing Authority | 7/25/2023
PA024 | Easton Housing Authority | 9/21/2023
PA026 | Housing Auth Co of Lawrence | 9/6/2023
SC911 | SC State Housing Authority | 9/20/2023
TX027 | McKinney Housing Authority | 9/20/2023
TX062 | Edinburg Housing Authority | 8/1/2023
TX072 | The Housing Authority of the City of Gainesville | 9/6/2023
UT009 | Davis Community Housing Authority | 9/20/2023
UT016 | Housing Authority of Carbon County | 9/6/2023
UT021 | St. George Housing Authority | 9/25/2023
VA017 | Hampton Redevelopment & Housing Authority | 7/25/2023
VA018 | Franklin Redevelopment And Housing Authority | 8/11/2023
VA025 | Suffolk Redevelopment And Housing Authority | 7/25/2023
VT005 | Barre Housing Authority | 9/20/2023
WA054 | HA of Pierce County | 8/25/2023
WI214 | Dane County Housing Authority | 9/25/2023
WV005 | Housing Authority of the City of Parkersburg | 7/25/2023

• Regulation: 24 CFR 990.145(b) Public housing dwelling units with approved vacancies.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410, or email PIH_Disaster_Relief@hud.gov.

PHA | Date signed
Hawaii Public Housing Authority | 9/18/2023

• Regulation: 24 CFR 5.801 Uniform Financial Reporting.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023

• Regulation: 24 CFR 902 Public Housing Assessment.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date Signed
Hawaii Public Housing Authority | 9/18/2023
Live Oak Housing Authority | 9/29/2023

• Regulation: 24 CFR 905.322(b) Fiscal Closeout.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023

• Regulation: 24 CFR 905.314 (b) -(c) (Cost and Other Limitations; Maximum Project Cost; TDC Limit).

Project/Activity: HUD published FR-6301-N-0:1 Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023

• Regulation: 24 CFR 905.314(j) (Cost and Other Limitations; Types of Labor).

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023

• Regulation: 24 CFR 960.202(c)(1) Tenant Selection Policies.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
County of Maui Housing Authority | 9/18/2023

• Regulation: 24 CFR 982.206(a) (2) Waiting List; Opening and Closing; Public Notice.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023

• Regulation: 24 CFR 982.503(c) (HUD approval of exception payment standard amount).

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street, SW Suite 3180, Washington, DC 20410-5000, or email PIH_Disaster_Relief@hud.gov.

PHA | Date signed
Hawaii Public Housing Authority | 9/18/2023
County Maui Housing Authority | 9/18/2023

• Regulation: 24 CFR 982.401(d) Housing Quality Standards; Space and Security.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing, 451 Seventh Street SW, Suite 3180, Washington, DC 20410, or email PIH_Disaster_Relief@hud.gov.

PHA | Date signed
Hawaii Public Housing Authority | 9/18/2023
County of Maui Housing Authority | 9/18/2023

• Regulation: 24 CFR 984.303(d) Contract of Participation: Contract Extension.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410, or email PIH_Disaster_Relief@hud.gov.

PHA | Date signed
Hawaii Public Housing Authority | 9/18/2023
County of Maui Housing Authority | 9/18/2023

• Regulation: 24 CFR 985 (SEMAP).

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410, or email to PIH_Disaster_Relief@hud.gov.

PHA | Date signed
County of Hawaii | 9/18/2023
Hawaii Public Housing Authority | 9/18/2023

• Regulation: Notice PIH 2018-24, Section 8 (c) Verification of Social Security Notice (SSN).

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410, or email PIH_Disaster_Relief@hud.gov.

PHA | Date signed
Hawaii Public Housing Authority | 9/18/2023
County of Maui Housing Authority | 9/18/2023

• Regulation: 24 CFR 970.15(b)(1)(ii) Specific Criteria for HUD Approval of Demo Request.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410-5000, or email to PIH_Disaster_Relief@hud.gov.

PHA | Date signed
Hawaii Public Housing Authority | 9/18/2023

• Regulation: 24 CFR 970.15(b) (2) Specific Criteria for HUD Approval of Demo Request.

Project/Activity: HUD published FR-6301-N-01: Regulatory and Administrative Requirement Waivers and Flexibilities Available to HUD Public Housing and Section 8 During CY 2022 and CY 2023 to Public Housing Agencies to Assist with Recovery and Relief Efforts on Behalf of Families Affected by Presidentially Declared Disasters.

Granted By: Dominique Blom, General Deputy Assistant for Public and Indian Housing.

Reason Waived: HUD established an expedited process for waivers and flexibilities from regulatory and administrative requirements during Presidentially Declared Disasters (PDDs). To respond to PDDs, HUD establishes an expedited process for the review of waiver requests and flexibilities for calendar years (CY) 2022 and 2023, for Public Housing Agencies (PHAs) located within PDDs (PDD PHAs).

Contact: Tesia Anyanaso, Office of Field Operations/Coordination and Compliance Division, Office of Public and Indian Housing 451 Seventh Street SW, Suite 3180, Washington, DC 20410, or email PIH_Disaster_Relief@hud.gov.

PHA | Date signed
Hawaii Public Housing Authority | 9/18/2023

[FR Doc. 2024-07956 Filed 4-16-24; 8:45 am]

BILLING CODE 4210-67-P